OFFICE OF MANAGEMENT AND BUDGET

Notice of Request for Information: Establishing a Government Effectiveness Advanced Research (GEAR) Center

AGENCY: Office of Management and Budget (OMB), Executive Office of the President.

ACTION: Notice of request for information: Establishing a Government Effectiveness Advanced Research (GEAR) Center.

SUMMARY: The Executive Office of the President seeks input from across sectors and disciplines on capabilities that already exist as well as key considerations in pursuing the Government Effectiveness Advanced Research (GEAR) Center initiative through a request for information (RFI) now available on www.Performance.gov/GEARcenter.

The Federal Government intends to pursue a Government Effectiveness Advanced Research (GEAR) Center, which would be a public-private partnership focused on applied research that improves mission delivery, citizen services, and stewardship of public resources, as proposed in Delivering Government Solutions for the 21st Century: Reform Plan and Reorganization Recommendations. This non-governmental, public-private partnership would address operational and strategic challenges facing the Federal Government, both now and into the future, by engaging researchers, academics, non-profits, and private industry across an array of disciplines, such as data science, organizational behavior, and user-centered design.

Through applied research and live pilot testing, the GEAR Center would connect cutting-edge thinking with real-world challenges the Federal Government faces in serving Americans in the Digital Age. This means re-imagining possibilities for how citizens interact with the Government; rethinking the delivery of citizen services and data; reforming core processes (e.g., procurement, budget, IT investment and capital allocation); and exploring how the public-sector workforce can be developed, reskilled and redeployed in creative ways.

DATES: September 14, 2018.

ADDRESSES: Submissions are due on September 14, 2018 through email to performance@omb.eop.gov.

SUPPLEMENTARY INFORMATION:

Instructions for Written Responses

Interested parties should provide written responses to the questions outlined in the “Purpose of This RFI” section. Submissions are due on September 14, 2018 through email to performance@omb.eop.gov.

Please include the below in your response, limiting this portion of your response to one page:

• The name of the individual(s) and/or organization responding.

• A brief description of the responding individual(s) or organization's mission and/or areas of expertise, including any public-private partnership work within the past three years with Federal, State, or local governments that is relevant to applied research on workforce reskilling and data commercialization.

• A contact for questions or other follow-up on your response.

Next Steps

To get up-to-date information and view the RFI, please visit www.performance.gov/GEARcenter and follow @PerformanceGov on Twitter.

Margaret Weichert,
OMB Deputy Director for Management.

[FR Doc. 2018-16615 Filed 8-2-18; 8:45 am]

BILLING CODE 3110-01-P